ENVIRONMENTAL PROTECTION AGENCY

[ER-FRL-8598-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090038, ERP No. D-COE-K35045-CA, PROGRAMMATIC—Los Angeles Regional Dredge Material Management Plan, Develop a Long-Term Strategy for Managing Dredged Sediment for all Harbors within the Region, City of Long Beach and County of Los Angeles, CA.

Summary: EPA expressed environmental concerns about the need for additional alternatives analysis; analysis of sediment management options; and better evaluation of dredging methods. Rating EC2.

EIS No. 20090134, ERP No. D-COE-K65363-CA, Newhall Ranch Resource Management and Development Plan (RMDP) and the Spineflower Conservation Plan (SCP), Implementation, Portion of Santa Clara River Valley, Los Angeles County, CA.

Summary: EPA expressed environmental objections to water quality impacts to tributaries of the Santa Clara River, and expressed concerns about impacts to air quality, traffic, and water supply. EPA recommended the maximum avoidance alternative that reduces project footprint and impacts and provided additional green building resources. Rating EO2.

EIS No. 20090177, ERP No. D-AFS-K65366-CA, Lassen National Forest, Motorized Travel Management Plan, Implementation, Butte, Lassen, Modoc, Plumas, Shasta, Siskiyou, Tehama Counties, CA.

Summary: EPA expressed environmental concerns about the scope of alternatives analysis, water resource impacts, decommissioning of unauthorized routes, and monitoring and enforcement of travel management requirements. Rating EC2.

EIS No. 20090232, ERP No. D-BIA-K60043-CA, Soboba Band of Luiseno Indians Horseshoe Grande Fee-to-Trust Project, Construction of a Hotel and Casino Project, City of San Jacinto, Riverside County, CA.

Summary: EPA expressed environmental concerns about potential impacts to waters of the U.S. from the wastewater treatment percolation pond, and recommended mitigation measures for construction equipment emissions, pollution prevention measures to avoid soil contamination, and commitments to green building design. Rating EC2.

EIS No. 20090254, ERP No. D-AFS-K65377-00, Bridgeport Travel Management Project, To Provide the Primary Framework for Sustainable Management of Motor Vehicle Use on the Bridgeport Ranger District, Humboldt-Toiyabe National Forest, Mono County, CA and Lyon, Douglas, and Mineral Counties, NV.

Summary: EPA expressed environmental concerns about the scope of alternatives analysis, water resources, wet weather and seasonal closures, erosion, decommissioning of unauthorized routes, climate change, and monitoring and enforcement of travel management requirements. Rating EC2.

EIS No. 20090266, ERP No. D-IBR-K39120-CA, Madera Irrigation District Water Supply Enhancement Project, Constructing and Operating a Water Bank on the Madera Property, Madera County, CA.

Summary: EPA expressed environmental concerns about the long-term feasibility of this conjunctive use/water bank project given increasingly constrained source water supplies, and potential significant impacts to vernal pools, rare alkali rain pools, and threatened and endangered species. Rating EC2.

EIS No. 20090273, ERP No. D-FSA-A65177-00, PROGRAMMATIC—Biomass Crop Assistance Program (BCAP), To Establish and Administer the Program Areas Program Component of BCAP as mandated in Title IX of the 2008 Farm Bill in the United States.

Summary: EPA expressed environmental concerns about potential direct, indirect and cumulative impacts bioenergy crops will have on water quality and air quality to waters of the U.S., and recommended a monitoring program for the BCAP and subsequent individual projects. Rating EC2.

EIS No. 20090280, ERP No. DS-FHW-E40768-TN, Shelby Avenue/Demonbreun Street (Gateway Boulevard Corridor, from I-65 North [I-24 West] to I-40 West in Downtown Nashville, To Address Transportation needs in the Study Area, Davidson County, TN.

Summary: EPA expressed environmental concerns about air toxic impacts and requested that this issue be addressed. EPA also requested that the document include appropriate mitigation. Rating EC2.

Final EISs

EIS No. 20090236, ERP No. F-FHW-K53013-CA, Orange County Gateway Project, To Provide Grade Separation Alternative Along the Burlington Northern Santa Fe railroad tracks from west of Bradford Avenue to west of Imperial Highway (State Route 90), Cities of Placentia and Anaheim, Orange County, CA.

Summary: EPA continues to have environmental concerns about impacts to air quality and jurisdictional waters, as well as, cumulative impacts and environmental justice impacts.

EIS No. 20090288, ERP No. F-COE-K39041-CA, Natomas Levee Improvement Program, Phase 3 Landside Improvements Project, Issuance of Section 408 and 404 Permits, Sacramento and Sutter Counties, CA.

Summary: EPA continues to have environmental concerns about the residual flood risk to development in a floodplain protected by levees, and indirect and cumulative environmental effects. EPA recommended Natomas Basin flood safety plan implementation prior to additional development.

EIS No. 20090300, ERP No. F-NPS-K61169-AZ, Fire Management Plan, Management of Wildland and Prescribed Fire, Protection of Human Life and Property Restoration and Maintenance of Fire Dependent Ecosystems, and Reduction of Hazardous Fuels, Grand Canyon National Park, Coconino County, AZ.

Summary: No formal comment letter was sent to the preparing agency.

Dated: October 6, 2009.
Robert W. Hargrove,
Director, NEPA Compliance Division, Office of Federal Activities.

BILLING CODE 6560-50-U

[FR Doc. E9-24468 Filed 10-8-09; 8:45 am]

BILLING CODE 6560-50-P